DEPARTMENT OF HEALTH AND HUMAN SERVICES

Agency for Healthcare Research and Quality Contract Review Meeting

In accordance with section 10(a) of the Federal Advisory Committee Act as amended (5 U.S.C., Appendix 2), announcement is made of an Agency for Healthcare Research and Quality (AHRQ) Technical Review Committee (TRC) meeting. This TRC's charge is to provide, on behalf of AHRQ, review of contract proposals and recommendations to the Director, AHRQ, regarding the technical merit of proposals submitted in response to a Request for Proposals (RFPs) regarding “Evidence-based Practice Centers”, issued on March 8, 2007.

The upcoming TRC meeting will be closed to the public in accordance with the Federal Advisory Committee Act (FACA), section 10(d) of 5 U.S.C., Appendix 2, implementing regulations, and procurement regulations, 41 CFR 101-6.1023 and 48 CFR section 315.604(d). The discussions at this meeting of contract proposals submitted in response to the above-referenced RFP are likely to reveal proprietary and personal information concerning individuals associated with the proposals. Such information is exempt from disclosure under the above-cited FACA provision that protects the free exchange of candid views, and under the procurement rules that prevent undue interference with Committee and Department operations.

Name of TRC: The Agency for HealthCare Research and Quality, “Evidence-based Practice Centers”.

Date: June 11-12, 2007.

Place: Agency for HealthCare Research and Quality, 540 Gaither Road, Conference Center, Rockville, Maryland 20850.

Contact Person: Anyone wishing to obtain information regarding this meeting should contact Beth Collins-Sharp, Center for Outcomes and Evidence, 540 Gaither Road, Rockville, Maryland 20850, (301) 427-1503.

Dated: May 22, 2007.
Carolyn M. Clancy,
Director.

[FR Doc. 07-2681 Filed 5-25-07; 10:42 am]

BILLING CODE 4160-90-M